DEPARTMENT OF COMMERCE

Foreign-Trade Zones Board

[Docket 41-2011]

Foreign-Trade Zone 41—Milwaukee, Wisconsin; Application for Reissuance of the Grant of Authority

An application has been submitted to the Foreign-Trade Zones Board (the Board) by the Foreign Trade Zone of Wisconsin, Ltd., grantee of FTZ 41, requesting the reissuance of the grant of authority for FTZ 41 to the Port of Milwaukee. The Port of Milwaukee has similarly submitted a request for the reissuance and is authorized to accept such reissuance under Wisconsin Statute 182.50. The application was filed on June 9, 2011.

FTZ 41 was initially approved by the Board on September 29, 1978 (Board Order 136, 43 FR 46887, 10/11/1978) and currently consists of five sites and five subzones in the Milwaukee, Wisconsin, area. An application to reorganize the zone under the Alternative Site Framework (ASF) is currently pending (FTZ Docket 23-2011). The Port of Milwaukee has indicated its support for the reorganization of FTZ 41 under the ASF.

Public comment is invited from interested parties. Submissions (original and 3 copies) shall be addressed to the Board's Executive Secretary at the address below. The closing period for their receipt is July 15, 2011. Rebuttal comments in response to material submitted during the foregoing period may be submitted during the subsequent 15-day period to August 1, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth.Whiteman@trade.gov or (202) 482-0473.

Dated: June 9, 2011.
Andrew McGilvray,
Executive Secretary.

[FR Doc. 2011-14851 Filed 6-14-11; 8:45 am]

BILLING CODE P